DEPARTMENT OF LABOR

Employment and Training Administration

[TA-W-52,065]

State of Alaska Commercial Fisheries Entry Commission Permit #S1SB578390, Fairbanks, AK; Notice of Termination of Investigation

Pursuant to section 221 of the Trade Act of 1974, as amended, an investigation was initiated on June 17, 2003, in response to a petition filed by a company official on behalf of workers covered by the State of Alaska Commercial Fisheries Entry Commission Permit #S1SB578390, Fairbanks, Alaska.

The Department has been unable to locate the company official for the subject group to obtain the information necessary to reach a determination on worker group eligibility. Consequently, further investigation in this case would serve no purpose, and the investigation has been terminated.

Signed at Washington, DC, this 21st day of July, 2003.
Linda G. Poole,
Certifying Officer, Division of Trade Adjustment Assistance.

[FR Doc. 03-19860 Filed 8-4-03; 8:45 am]

BILLING CODE 4510-30-P